DEPARTMENT OF THE INTERIOR

National Park Service

Announcement of Gates of the Arctic National Park Subsistence Resource Commission (SRC) Meeting

SUMMARY: Notice is hereby given in accordance with the Federal Advisory Committee Act that a meeting of the Gates of the Arctic National Park Subsistence Resource Commissions will be held at Fairbanks, Alaska. The purpose of the meeting will be to continue work on currently authorized and proposed National Park Service subsistence hunting program recommendations including other related subsistence management issues. The meeting will be open to the public. Any person may file with the Commission a written statement concerning the matters to be discussed.

The Subsistence Resource Commission is authorized under Title VIII, Section 808, of the Alaska National Interest Lands Conservation Act, Pub. L. 96-487, and operates in accordance with the provisions of the Federal Advisory Committee Act.

DATES: The meeting times are, 1. Tuesday, November 9, 2004, from 9 a.m. to approximately 5 p.m. 2. Wednesday, November 10, 2004, from 9 a.m. to approximately 5 p.m.

SUPPLEMENTARY INFORMATION: Locations and dates may need to be changed based on weather or local circumstances. Notice of this meeting will be published in local newspapers and announced on local radio stations prior to the meeting dates. The agenda for the meeting is as follows:

1. Call to order (SRC Chair).

2. SRC Roll Call and Confirmation of Quorum.

3. SRC Chair and Superintendent's Welcome and Introductions.

4. Review and Approve Agenda.

5. Review and adopt minutes from April 20-21, 2004 meeting.

6. Review Commission Purpose and Status of Membership.

7. SRC Member's Report.

8. Public and Agency Comments.

9. Superintendent's Report.

10. Access Issues—Airboats.

11. User Conflicts.

12. Durational Residency.

13. Wildlife Management Unit 24 Moose Regulations and Moose Survey Report.

14. Kobuk River Management Issues.

15. Bear Baiting.

16. Federal Subsistence Board: Wildlife and Fisheries Reports.

17. 2004 SRC Chairs Workshop Update.

18. NPS Staff Reports.

19. New Business.

20. SRC, Agency, Public Closing Comments.

21. Set time and place of next SRC meeting.

22. Adjournment.

Draft minutes of the meeting will be available for public inspection approximately six weeks after the meeting from the Superintendent, Gates of the Arctic National Park and Preserve, 201 First Ave., Fairbanks, Alaska, 99701.

FOR FURTHER INFORMATION CONTACT: Dave Mills, Superintendent, at (907) 457-5752 or Fred Andersen, Subsistence Manager, at (907) 455-0621.

Dated: August 26, 2004.
Marcia Blaszak,
Regional Director, Alaska Region.

[FR Doc. 04-23744 Filed 10-21-04; 8:45 am]

BILLING CODE 4312-HC-P